DEPARTMENT OF HEALTH AND HUMAN SERVICES

National Institutes of Health

Proposed Collection; Comment Request; Biologic Specimen-Based Study of Dietary Measurement Error for Nutritional Epidemiology and Surveillance Follow-Up Study

SUMMARY: In compliance with the requirement of Section 3506(c)(2)(A) of the Paperwork Reduction Act of 1995, for opportunity for public comment on proposed data collection projects, the National Cancer Institute (NCI), the National Institutes of Health (NIH), will publish periodic summaries of proposed projects to be submitted to the Office of Management and Budget (OMB) for review and approval.

Proposed Collection

Title: Biologic Specimen-Based Study of Dietary Measurement Error for Nutritional Epidemiology and Surveillance Follow-up Study. Type of Information Collection Request: Reinstatement with change (OMB # 0925-0465, expiration 07/31/02). Need and Use of Information Collection: The agency conducts and funds studies examining the relationship between diet and chronic diseases. The study will collect food intake and physical activity data and body weight measurements on a sample of 408 free-living men and women, 43 to 72 years of age, who participated in the 1999 Biologic Specimen-Based Study of Dietary Measurement Error for Nutritional Epidemiology and Surveillance. Participants will complete a food frequency questionnaire, two 4-day food intake records, 7 food intake checklists, a physical activity questionnaire, and a body weight measurement. The data will be used to assess the magnitude and structure of dietary measurement error in dietary surveillance and nutritional epidemiologic studies.

Frequency of Response: One-time study. Affected Public: Individuals or households. Type of Respondents: US adults 43-72 years. The annual reporting burden is as follows:

Data collection task | Estimated Number of respondents | Estimated Number of responses per respondent | Average burden hours per response | Estimated total hour burden | Estimated total annual burden hours requested
Enrollment Form | 408 | 1 | 0.083 | 34 | 34
Food frequency questionnaire | 408 | 1 | 1 | 408 | 408
4-Day food record 1 | 408 | 1 | .668-1.332 | 273-543 | 273-543
4-Day food record 2 | 408 | 1 | .668-1.1332 | 273-543 | 273-543
Food Checklist | 408 | 7 | .083-.117 | 237-334 | 237-334
Physical activity questionnaire | 408 | 1 | .25 | 102 | 102
Weight measurement | 408 | 1 | .25 | 102 | 102
Total | 408 |  |  | 1429-2066 | 1429-2066

The annualized cost to respondents is estimated at $20,660. There are no Capital Costs to report. There are no Operating and/or Maintenance Costs to report.

Request for Comments: Written comments and/or suggestions from the public and affected agencies are invited on one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact Amy Subar, Ph.D., Project Officer, National Cancer Institute, EPN 313, 6130 Executive Blvd MSC 7344, Bethesda, MD 20892-7344, or call non-toll-free number (301) 496-8500, or FAX your request to (301) 435-3710, or E-mail your request, including your address, to: subara@mail.nih.gov

COMMENTS DUE DATE: Comments regarding this information collection are best assured of having their full effect if received within 60 days of the date of this publication.

Dated: April 29, 2003.
Reesa L. Nichols,
NCI Project Clearance Liaison.

[FR Doc. 03-11071 Filed 5-5-03; 8:45 am]

BILLING CODE 4140-01-M